DEPARTMENT OF COMMERCE

National Oceanic and Atmospheric Administration

50 CFR Part 635

[Docket No. 150413357-5999-02]

RIN 0648-XD898

Atlantic Highly Migratory Species; 2016 Atlantic Shark Commercial Fishing Season

AGENCY: National Marine Fisheries Service (NMFS), National Oceanic and Atmospheric Administration (NOAA), Commerce.

ACTION: Final rule; fishing season notification.

SUMMARY: This final rule establishes an opening date of January 1, 2016, for all Atlantic shark fisheries, including the fisheries in the Gulf of Mexico. This final rule also establishes the quotas for the 2016 fishing season based on over- and/or underharvests experienced during 2015 and previous fishing seasons. The large coastal shark (LCS) retention limit for directed shark limited access permit holders will start at 45 LCS other than sandbar sharks per trip in the Gulf of Mexico region and at 36 LCS other than sandbar sharks per trip in the Atlantic region. These retention limits for directed shark limited access permit holders may decrease or increase during the year to provide, to the extent practicable, fishing opportunities for commercial shark fishermen in all regions and areas. NMFS anticipates that the retention limit in the Atlantic region will likely increase to the default limit of 45 LCS other than sandbar sharks per trip around July 15, 2016, subject to NMFS' evaluation of the inseason trip limit adjustment criteria. These actions could affect fishing opportunities for commercial shark fishermen in the northwestern Atlantic Ocean, including the Gulf of Mexico and Caribbean Sea.

DATES: This rule is effective on January 1, 2016. The 2016 Atlantic commercial shark fishing season opening dates and quotas are provided in Table 1 under SUPPLEMENTARY INFORMATION.

ADDRESSES: Highly Migratory Species Management Division, 1315 East-West Highway, Silver Spring, MD 20910.

FOR FURTHER INFORMATION CONTACT: Guý DuBeck or Karyl Brewster-Geisz at 301-427-8503.

SUPPLEMENTARY INFORMATION:

Background

The Atlantic commercial shark fisheries are managed under the authority of the Magnuson-Stevens Fishery Conservation and Management Act (Magnuson-Stevens Act). The 2006 Consolidated Highly Migratory Species (HMS) Fishery Management Plan (FMP) and its amendments are implemented by regulations at 50 CFR part 635. For the Atlantic commercial shark fisheries, the 2006 Consolidated HMS FMP and its amendments established, among other things, commercial shark retention limits, commercial quotas for species and management groups, accounting measures for under- and overharvests for the shark fisheries, and adaptive management measures such as flexible opening dates for the fishing season and inseason adjustments to shark trip limits, which provide management flexibility in furtherance of equitable fishing opportunities, to the extent practicable, for commercial shark fishermen in all regions and areas.

On August 18, 2015 (80 FR 49974), NMFS published a rule proposing the 2016 opening dates for the Atlantic commercial shark fisheries and quotas, based on shark landings information reported as of July 15, 2015. The August 2015 proposed rule contains details that are not repeated here. The comment period on the proposed rule ended on September 17, 2015.

During the comment period, NMFS received several written and oral comments on the proposed rule. Those comments, along with the Agency's responses, are summarized below. As further detailed in the Response to Comments section, after considering all the comments, NMFS is opening the fishing seasons for all shark management groups on January 1, 2016, as proposed in the August 18, 2015, proposed rule. For directed shark limited access permit holders, the Gulf of Mexico blacktip, aggregated LCS, and hammerhead management groups will start the fishing season with a retention limit of 45 LCS other than sandbar sharks per vessel per trip. The aggregated LCS and hammerhead shark management groups in the Atlantic region will start the fishing season with a retention limit of 36 LCS other than sandbar sharks per vessel per trip for directed shark limited access permit holders, which is a change from the proposed rule. Also, some of the quotas have changed since the proposed rule, based on updated landings information as of October 16, 2015. The retention limit for incidental shark limited access permit holders has not changed and remains at 3 LCS other than sandbar sharks per trip and a combined total of 16 small coastal sharks (SCS) and pelagic sharks, combined, per trip, consistent with § 635.24(a)(3) and (4).

This final rule serves as notification of the 2016 opening dates of the Atlantic commercial shark fisheries and 2016 quotas, based on shark landings updated as of October 16, 2015, pursuant to the “opening commercial fishing season” criteria at § 635.27(b)(3)(i) through (vii). This action does not change the annual base commercial quotas established under the 2006 Consolidated HMS FMP and its amendments for any shark management group. Any such changes would be performed through a separate action. Rather, this action adjusts the annual base commercial quotas for 2016 based on over- and/or underharvests that occurred in 2015 and previous fishing seasons, consistent with existing regulations.

Response to Comments

NMFS received 6 written comments on the proposed rule from fishermen, dealers, and other interested parties. All written comments can be found at http://www.regulations.gov/ by searching for RIN 0648-XD898. NMFS received approximately 5 oral comments which were received through phone conversations. All of the oral comments are incorporated with the written comments below.

A. LCS Management Group Comments

Comment 1: NMFS received several comments regarding the proposed opening date for the aggregated LCS and hammerhead management groups in the Atlantic region. The North Carolina Division of Marine Fisheries (NCDMR) and other commenters from the southern and northern part of the region supported the proposed opening date of January 1 for the aggregated LCS and hammerhead management groups, retention limit, and inseason retention limit adjustments for LCS fisheries as long as the majority of the quota is available later in the year. The comments from some of the fishermen supporting the January 1 opening date noted they preferred the opportunity to land some LCS that were caught while targeting SCS and other non-shark species rather than discard them if the season is closed in January. NMFS also received a few comments regarding the timing for the inseason retention limit adjustment. One commenter supported the January 1 opening date with reducing the retention limit on March 1 to incidental levels (3 LCS other than sandbar sharks per vessel per trip) before increasing the retention limit on August 1 to 55 LCS other than sandbar sharks per vessel per trip. Another commenter supported the January 1 opening date until 50 percent of the quota is reached before reducing the retention limit to incidental levels and then increasing the retention limit on July 1 to 55 LCS other than sandbar sharks per vessel per trip. NMFS also received comments opposing the proposed opening date of January 1 with inseason retention limit adjustments. The Commonwealth of Virginia Marine Resources Commission requested a June or July opening date for the LCS fisheries to allow their state-water fishermen an opportunity to fish for sharks under the proposed retention limit, while other commenters suggested a July 1 LCS fishery opening date at the proposed retention limit with no inseason retention limit adjustments. The comments from some of the fishermen in the southern part of the region noted they preferred the opportunity to fish for sharks in October through December because they participate in other, non-shark fisheries at the beginning of the year and in the shark fisheries later in the year, when there are no other fisheries open in Florida. Also, these commenters are concerned that having the LCS fisheries in the Atlantic and Gulf of Mexico regions open at the same time will flood the market with shark products, causing a dramatic drop in potential revenue.

Response: NMFS evaluates the “opening commercial fishing season” criteria (§ 635.27(b)(3)) when choosing an opening date. These criteria include: (1) The available annual quotas for the current fishing season for the different species/management groups based on any over- and/or underharvests experienced during the previous commercial shark fishing seasons; (2) estimated season length based on available quota(s) and average weekly catch rates of different species and/or management group from the previous years; (3) length of the season for the different species and/or management group in the previous years and whether fishermen were able to participate in the fishery in those years; (4) variations in seasonal distribution, abundance, or migratory patterns of the different species/management groups based on scientific and fishery information; (5) effects of catch rates in one part of a region precluding vessels in another part of that region from having a reasonable opportunity to harvest a portion of the different species and/or management quotas; (6) effects of the adjustment on accomplishing the objectives of the 2006 Consolidated HMS FMP and its amendments; and/or (7) effects of a delayed opening with regard to fishing opportunities in other fisheries.

After evaluating these criteria, as described in the proposed rule, and reviewing the public comments, NMFS has decided to open the fisheries in the Atlantic region with a lower retention limit than proposed. Specifically, on January 1, 2016, the LCS fisheries in the Atlantic region will open with a retention limit of 36 LCS other than sandbar sharks per vessel per trip for directed shark limited access permit holders. NMFS has determined that a lower retention limit at the start of the season will allow NMFS to more easily and closely monitor the quota and catch rates in the beginning of the year to help ensure equitable fishing opportunities later in the year. NMFS chose 36 LCS other than sandbar sharks per vessel per trip because that was the commercial retention limit for the fishery from 2013 through August 2015, and thus is familiar to both NMFS and the participants in the fishery.

The proposed rule stated that, if it appears that the quota is being harvested too quickly to allow fishermen throughout the entire region an opportunity to fish, NMFS will reduce the commercial retention limit after a portion of the quota is harvested (e.g., 30 percent) and then raise the commercial retention limit at a later date (e.g., July 1 or 15) to allow greater fishing opportunities later in the year. Reducing the retention limit when 50 percent of the quota has been harvested, as suggested by a commenter, would likely not allow for fishing opportunities later in the year when the majority of the fishing occurs. Under § 635.28(b), NMFS closes any shark management group that has reached, or is projected to reach, 80 percent of the available quota. After considering public comment, NMFS believes that it is more appropriate to consider a retention limit reduction, when approximately 20 percent of the quota has been harvested (which is expected to occur in March or April, based on landings data from prior years). Any such action will depend on consideration of the factors under § 635.24(a)(8). If catch rates and landings are similar to past years, NMFS anticipates that it could reduce the retention limit to 3 LCS other than sandbar sharks, which is consistent with the retention limit for incidental limited access permit holders, when the 20 percent is reached. However, if the quota is being landed quickly at the beginning of the year, or if, after reducing the retention limit, the reduction to 3 LCS other than sandbar sharks does not slow the rate of harvest enough to allow for a fishery later in the year, NMFS could reduce the retention limit to 0. Alternatively, if the quota is being landed slowly, NMFS could choose not to reduce the retention limit, or not to reduce it all the way down to 3.

After considering public comment, NMFS anticipates that it will increase the commercial retention limit around July 15, 2016, as this was the date used for prior season opening dates. The retention limit will be the default level of 45 LCS other than sandbar sharks per vessel per trip for directed shark limited access permit holders, or another amount, as deemed appropriate after considering the inseason trip limit adjustment criteria (§ 635.24(a)(8)). NMFS believes that utilizing the inseason retention limit adjustment during the fishing season will promote equitable fishing opportunities in the Atlantic region, while still allowing the majority of quota to be harvested later in the year. The January 1 opening date should allow fishermen in the southern and northern portions of the Atlantic region the opportunity to fish at the beginning of the year, while providing all fishermen in the Atlantic region fishing opportunities later in the year, when the majority of fishing occurs, as the majority of the quota will still be available.

Regarding the comments from constituents suggesting when to adjust the retention limit, NMFS intends to reduce the retention limit to 3 LCS other than sandbar sharks per vessel per trip if the quota is being caught too quickly (e.g., if approximately 20 percent of the quota is harvested at the beginning of the year), and then anticipates that it will increase the retention limit to the default level of 45 LCS other than sandbar sharks per vessel per trip for directed shark limited access permit holders, or another amount, as deemed appropriate after considering the inseason trip limit adjustment criteria, around July 15, 2016. If NMFS were to reduce the retention limit when approximately 20 percent of the quota is harvested, based on past landings data, the aggregated LCS quota will likely reach 20 percent around March, which is similar to the time suggested by a commenter. Regarding an increase on August 1, NMFS will determine any potential increase in the retention limit at a later time, but notes that an increase around July 15 would be closer to recent opening dates of the fishery than August 1 and could better promote equitable fishing opportunities. Regarding the comment to wait until 50 percent of the quota was harvested before reducing the retention limit and then increasing the retention limit on July 1, when the Atlantic LCS fisheries last opened in January, the quota reached 50 percent in July. Thus, under that scenario, it is unlikely that any adjustment would be needed until much later in the season (e.g., August). In addition, under § 635.28(b), NMFS closes any shark management group that has reached, or is projected to reach, 80 percent of the available quota. Thus, waiting until 50 percent of the quota has been harvested before reducing the retention limit would likely prevent the majority of the quota from being available later in the year, which is what most of the public comments requested.

Regarding the comments from the Commonwealth of Virginia Marine Resources Commission and other commenters requesting an opening date in June or July in order to allow state-water fishermen the opportunity to fish and regarding the comments from constituents who prefer a later start date in order to fish for sharks at the end of the year, NMFS agrees that the fishery should remain open later in the year and anticipates having the majority of the quota available after July 15, 2016. Based on past landings data, having the majority of the quota available after July 15 would allow Virginia state-water fishermen the opportunity to fish for sharks and potentially allow the fishery to be open in October through December. Regarding the comments that having the LCS fisheries in the Atlantic and Gulf of Mexico regions open at the same time will impact the market prices, NMFS has no control over the market prices and this is not one of the criteria NMFS evaluates when choosing an opening date. However, in the past, the LCS fisheries in the Atlantic and Gulf of Mexico regions have been open at the same time, and during those times, NMFS has not noticed any dramatic impacts on the ex-vessel prices in either region. For example, in 2013, when both regional LCS fisheries were open in January, the ex-vessel price for Atlantic aggregated LCS stayed consistent throughout the year and was much higher than the Gulf of Mexico aggregated LCS ex-vessel prices.

Comment 2: NMFS received comments regarding the proposed sub-regional opening dates and commercial retention limit for the Gulf of Mexico blacktip, aggregated LCS, and hammerhead management groups. One commenter supported the proposed January 1 opening date for both Gulf of Mexico sub-regions and the proposed retention limit, suggesting that NMFS use this season as an experiment to see how the fishery operates under the new management measures from Amendment 6 to the 2006 Consolidated HMS FMP (Amendment 6). Another commenter suggested staggering the Gulf of Mexico sub-regional opening dates and increasing the retention limit. Specifically, the commenter suggested that both sub-regions open at 55 LCS other than sandbar sharks per vessel per trip, with the western Gulf of Mexico sub-region opening on January 1 and the eastern Gulf of Mexico sub-region opening on March 1.

Response: After considering public comment and the “opening commercial fishing season” criteria (§ 635.27(b)(3)) described in the proposed rule, NMFS has determined that opening the Gulf of Mexico blacktip, aggregated LCS, and hammerhead shark management groups on January 1 at 45 LCS other than sandbar sharks per vessel per trip for directed shark limited access permit holders, as proposed, will promote equitable fishing opportunities for constituents in each sub-region. In reaching this determination, NMFS considered, in particular, the length of the season for the different species and/or management groups in 2015 and whether fishermen were able to participate in the fishery (§ 635.27(b)(3)(iii)), and found that with a January 1 opening date in 2015, the length of the fishing season provided all fishermen with equitable fishing opportunities to participate in the fishery in 2015.

Regarding the comment relating to the different sub-regional opening dates, at this time, NMFS prefers to open both sub-regions at the same time to evaluate how the changes in the regulations, such as the increase in the retention limit, affect the fishery before making other changes to the commercial shark fishing season. NMFS may consider staggered opening dates for the sub-regions in future years if such an approach is needed to promote equitable fishing opportunities throughout the region.

B. Atlantic SCS Management Group Comments

Comment 3: NMFS received comments regarding the proposed opening date for the non-blacknose SCS and blacknose shark management groups in the Atlantic region. Most commenters, including NCDMR, supported the proposed January 1 opening date, while only a few commenters requested that the SCS fisheries not open until August to ensure that the southern part of the fishery would not be closed because of the blacknose shark quota linkage.

Response: Taking into consideration the “opening commercial fishing season” criteria (§ 635.27(b)(3)), as described in the proposed rule, and the general public support of the proposed opening date, NMFS has determined that keeping the proposed opening date of January 1 for the non-blacknose SCS and blacknose shark management groups in the Atlantic region will provide commercial shark fishermen year-round access to the increased non-blacknose SCS quota. In reaching this determination, NMFS considered, in particular, the current length of the 2015 season for the different species and/or management groups and whether fishermen were able to participate in the fishery in 2015 (§ 635.27(b)(3)(iii)), and found that with a January 1 opening date in 2015, the length of the fishing season provided all fishermen with equitable fishing opportunities to participate in the fishery in 2015. NMFS still encourages fishermen south of 34 degrees to avoid blacknose sharks to keep the non-blacknose SCS fishery open year-round in that area. NMFS linked these quotas due to concerns regarding the incidental harvest of blacknose sharks, which are overfished, while fishermen were targeting non-blacknose SCS. During the Amendment 3 to the 2006 Consolidated HMS FMP rulemaking process (75 FR 30484; June 1, 2010), fishermen indicated that they could avoid catching blacknose sharks when fishing for non-blacknose sharks. Fishermen successfully avoided blacknose sharks for several years. However, in the past few years, a small number of individuals began targeting blacknose sharks, resulting in early closures.

Comment 4: NMFS received comments to adjust the commercial retention limit for SCS, implement a commercial retention limit for Atlantic blacknose sharks, and establish a bycatch allowance for non-blacknose SCS (approximately 200 lb dw) once the blacknose quota is reached to reduce dead discards of SCS.

Response: This comment is outside the scope of this rulemaking because there is currently no commercial retention limit for blacknose sharks, and the purpose of this rulemaking is to adjust quotas based on over- and underharvests from the previous years and set opening dates for the 2016 shark seasons. The commenter thought that because NMFS was proposing to adjust the commercial retention limit for the LCS fisheries that NMFS could do the same for SCS fisheries. However, at this time, the only retention limit for SCS is for incidental shark permit holders, who can retain up to 16 SCS or pelagic sharks per vessel per trip.

NMFS considered a commercial retention limit for blacknose shark in Amendment 5a to the 2006 Consolidated HMS FMP (see Section 2.3, Alternatives Considered But Not Further Analyzed, of the Final Environmental Impact Statement for Amendment 5a) and received similar comments during the public comment period for Amendment 6. In those actions, NMFS preferred to address blacknose shark landings and discards by linking the blacknose shark and non-blacknose SCS quotas, which should provide a greater and more effective incentive for reducing landings of blacknose sharks than a retention limit, thus more effectively managing the blacknose fishery in a manner that maximizes resource sustainability, while minimizing, to the greatest extent possible, socioeconomic impacts. After the blacknose shark quota was reached much earlier this year (June 7) than in previous seasons (July 28, 2014, and September 30, 2013), NMFS examined the blacknose shark landings from the HMS electronic dealer data from 2015 on a per trip basis. These data indicate that the majority of the trips (60 percent of the total number of trips) landed less than 200 lb dw of blacknose sharks per trip; however, there were multiple trips (11 percent of the total number of trips) that landed more than 700 lb dw of blacknose sharks per trip, with some as high as 3,170 lb dw, which is approximately 8 percent of the entire quota. Because the blacknose shark linkage has caused the SCS fishery south of 34 degrees to close sooner than in previous seasons and given that the commercial quota continues to be overharvested, NMFS is re-considering the appropriateness of a commercial blacknose retention limit and may pursue this issue in a separate action.

C. General Comments

Comment 5: NMFS received comments to stop all shark fishing.

Response: This comment is outside the scope of this rulemaking because the purpose of this rulemaking is to adjust quotas for the 2016 shark seasons based on over- and underharvests from the previous years and set opening dates for the 2016 shark seasons. Management of the Atlantic shark fisheries is based on the best available science to achieve optimum yield while also rebuilding overfished shark stocks and preventing overfishing. The final rule does not reanalyze the overall management measures for sharks, which were analyzed in the 2006 Consolidated HMS FMP and its amendments. NMFS is considering further shark management measures, including those to rebuild shark stocks or prevent overfishing, in other upcoming rulemakings, such as Amendments 5b to the 2006 Consolidated HMS FMP.

Comment 6: NMFS received comments from the NCDMR that requested NMFS to perform a benchmark stock assessment on Atlantic blacktip and sandbar sharks as soon as possible.

Response: This comment is outside the scope of this rulemaking because the purpose of this rulemaking is to adjust quotas based on over- and underharvests from the previous years and set opening dates for the 2016 shark seasons. Most of the domestic shark stock assessments follow the SEDAR process. This process is also used by the South Atlantic, Gulf of Mexico, and Caribbean Fishery Management Councils and is designed to provide transparency throughout the stock assessment. With regard to the timing of upcoming shark stock assessments, NMFS aims to conduct a number of shark stock assessments every year and to regularly reassess these stocks. The number of species that can be assessed each year depends on whether assessments are establishing baselines or are only updates to previous assessments. Assessments also depend on ensuring there are data available for a particular species. Tentatively, in addition to the shark assessments being conducted by the International Commission for the Conservation of Atlantic Tunas (ICCAT), NMFS intends to conduct a dusky shark update assessment in 2016 and a Gulf of Mexico blacktip shark update assessment in 2017. NMFS is currently considering options that would allow for both Atlantic blacktip and sandbar sharks to be assessed in 2018.

Changes From the Proposed Rule

NMFS made four changes to the proposed rule, as described below.

1. NMFS changed the final eastern Gulf of Mexico blacktip shark quota from the 28.9 mt dw (63,835 lb dw) in the proposed rule to 28.9 mt dw (63,819 lb dw), a difference of 16 lb dw, based on updated landings through October 16, 2015. In the 2016 shark season proposed rule (80 FR 49974; August 18, 2015), which was based on data available through July 17, 2015, the 2016 adjusted annual quota for eastern Gulf of Mexico blacktip shark was proposed to be 28.9 mt dw (63,835 lb dw), based on an underharvest of 0.1 mt dw (308 lb dw) from 2014 and an underharvest of 3.7 mt dw from 2015 (8,088 lb dw). NMFS explained in the proposed rule that it would adjust the proposed quotas based on dealer reports as of mid-October or mid-November 2015. Based on updated landings data through October 16, 2015, the overall 2015 Gulf of Mexico blacktip shark management group underharvest was 37.4 mt dw (82,373 lb dw). Consistent with Amendment 6 and the August 2015 proposed rule, NMFS will account for underharvest based on the sub-regional quota percentage split. Thus, the eastern Gulf of Mexico blacktip shark quota is increased by 9.8 percent of the 2015 underharvest or 3.7 mt dw (8,072 lb dw). Therefore, the 2016 adjusted annual quota for eastern Gulf of Mexico blacktip shark is 28.9 mt dw (63,819 lb dw) (25.1 mt dw annual base quota + 0.1 mt dw from 2014 underharvest + 3.7 mt dw from the 2015 underharvest = 28.9 mt dw). Landings information beyond October 16, 2015, was not available while NMFS was writing this rule. This final rule used the most recent available information to allow NMFS to properly analyze the fishery and open the fishery as proposed on January 1, 2016. Any landings between October 16 and December 31, 2015, will be accounted for in the 2017 shark fisheries quotas, as appropriate.

2. NMFS changed the final western Gulf of Mexico blacktip shark quota from the 266.6 mt dw (587,538 lb dw) in the proposed rule to 266.5 mt dw (587,396 lb dw), a difference of 142 lb dw, based on updated landings through October 16, 2015. In the proposed rule, which was based on data available through July 17, 2015, the 2016 adjusted annual quota for western Gulf of Mexico blacktip shark was proposed to be 266.6 mt dw (587,538 lb dw), based on an underharvest of 1.3 mt dw (2,834 lb dw) from 2014 and an underharvest of 33.7 mt dw (74,443 lb dw) from 2015. Based on updated landings data through October 16, 2015, the overall 2015 Gulf of Mexico blacktip shark management group was underharvested by 37.4 mt dw (82,373 lb dw). Consistent with Amendment 6 and the August 2015 proposed rule, NMFS will account for underharvest based on the sub-regional quota percentage split. Thus, the western Gulf of Mexico blacktip shark quota is increased by 90.2 percent of the 2015 underharvest, or 33.7 mt dw (74,301 lb dw). Therefore, the 2016 adjusted annual quota for eastern Gulf of Mexico blacktip shark is 266.5 mt dw (587,396 lb dw) (231.5 mt dw annual base quota + 1.3 mt dw from 2014 underharvest + 33.7 mt dw from the 2015 underharvest = 266.5 mt dw 2016 adjusted annual quota). As described above, landings information beyond October 16, 2015, was not available while NMFS was writing this rule. This final rule used the most recent available information to allow NMFS to properly analyze the fishery and open the fishery on January 1, 2016. Any landings between October 16 and December 31, 2015, will be accounted for in the 2017 shark fisheries quotas, as appropriate.

3. NMFS changed the final Atlantic blacknose shark quota from the 15.7 mt dw (34,700 lb dw) in the proposed rule to 15.7 mt dw (34,653 lb dw), a difference of 47 lb, based on updated landings through October 16, 2015. In the proposed rule, the quota for the Atlantic blacknose shark management group was proposed to be 15.7 mt dw (34,700 lb dw), due to an adjustment of 0.5 mt dw (1,111 lb dw) for a 2012 overharvest that was spread over five years and an adjustment of 1.0 mt dw (2,110 lb dw) for a 2015 overharvest that was spread over three years. However, based on the updated landings data, NMFS found that the 2015 quota was overharvested by 3.0 mt dw (6,471 lb dw) and not the 6,328 lb dw originally considered. Consistent with the proposed rule, NMFS will spread this overharvest amount over 3 years at 1.0 mt dw (2,157 lb dw) each year from 2016-2018. Thus, NMFS will reduce the 2016 base annual quota by 1.5 mt dw (3,268 lb dw), based on the 2012 overharvest amount and the most recent estimates of the 2015 landings. Therefore, the 2016 adjusted annual quota for Atlantic blacknose shark is 15.7 mt dw (34,653 lb dw) (17.2 mt dw annual base quota − 0.5 mt dw 2012 overharvest − 1.0 mt dw 2015 overharvest = 15.7 mt dw 2016 adjusted annual quota). As described above, landings information beyond October 16, 2015, was not available while NMFS was writing this rule. This final rule used the most recent available information to allow NMFS to properly analyze the fishery and open the fishery on January 1, 2016. Any landings between October 16 and December 31, 2015, will be accounted for in the 2017 shark fisheries quotas, as appropriate.

4. NMFS changed the retention limit for directed shark limited access permit holders at the start of the commercial shark fishing season for the aggregated LCS and hammerhead shark management groups in the Atlantic region from 45 LCS other than sandbar sharks per vessel per trip to 36 LCS other than sandbar sharks per vessel per trip. As explained above, NMFS changed the retention limit after considering the “opening commercial fishing season” criteria (§ 635.27(b)(3)), public comment, and the 2015 landings data in order to promote equitable fishing opportunities throughout the Atlantic region.

2016 Annual Quotas

This final rule adjusts the 2016 commercial quotas due to over- and/or underharvests in 2015 and previous fishing seasons, based on landings data through October 16, 2015. The 2016 annual quotas by species and species group are summarized in Table 1. All dealer reports that are received by NMFS after October 16, 2015, will be used to adjust the 2017 quotas, if necessary. A description of the quota calculations is provided in the proposed rule and is not repeated here. Any changes are described in the “Changes from the Proposed Rule” section.

Table 1—2016 Annual Quotas for the Atlantic Shark Fisheries
[All quotas and landings are dressed weight (dw), in metric tons (mt), unless specified otherwise. 1 mt dw = 2,204.6 lb dw]
Region or sub-region | Management group | 2015 annual quota (A) | Preliminary 2015 landings ¹ (B) | Adjustments (C) | 2016 Base annual quota (D) | 2016 Final annual quota (D+C)
Eastern Gulf of Mexico | Blacktip Sharks | 25.1 mt dw (55,439 lb dw) | 21.5 mt dw (47,366 lb dw) ² | 3.8 mt dw (8,380 lb dw) ³ | 25.1 mt dw (55,439 lb dw) | 28.9 mt dw (63,819 lb dw)
| Aggregated Large Coastal Sharks | 85.5 mt dw (188,593 lb dw) | 84.5 mt dw (186,223 lb dw) ² |  | 85.5 mt dw (188,593 lb dw) | 85.5 mt dw (188,593 lb dw)
| Hammerhead Sharks | 13.4 mt dw (29,421 lb dw) | 7.3 mt dw (16,198 lb dw) ² |  | 13.4 mt dw (29,421 lb dw) | 13.4 mt dw (29,421 lb dw)
Western Gulf of Mexico | Blacktip Sharks | 231.5 mt dw (510,261 lb dw) | 197.7 mt dw (435,961 lb dw) ² | 35.0 mt dw (77,135 lb dw) ³ | 231.5 mt dw (510,261 lb dw) | 266.5 mt dw (587,396 lb dw)
| Aggregated Large Coastal Sharks | 72.0 mt dw (158,724 lb dw) | 69.6 mt dw (153,380 lb dw) ² |  | 72.0 mt dw (158,724 lb dw) | 72.0 mt dw (158,724 lb dw)
| Hammerhead Sharks | 11.9 mt dw (23,301 lb dw) | 6.5 mt dw (14,360 lb dw) ² |  | 11.9 mt dw (23,301 lb dw) | 11.9 mt dw (23,301 lb dw)
Gulf of Mexico | Non-Blacknose Small Coastal Sharks | 45.5 mt dw (100,317 lb dw) | 69.9 mt dw (154,077 lb dw) | −5.3 mt dw (−11,612 lb dw) ⁴ | 112.6 mt dw (248,215 lb dw) | 107.3 mt dw (236,603 lb dw)
Atlantic | Aggregated Large Coastal Sharks | 168.9 mt dw (372,552 lb dw) | 90.1 mt dw (198,651 lb dw) |  | 168.9 mt dw (372,552 lb dw) | 168.9 mt dw (372,552 lb dw)
| Hammerhead Sharks | 27.1 mt dw (59,736 lb dw) | 8.5 mt dw (18,703 lb dw) |  | 27.1 mt dw (59,736 lb dw) | 27.1 mt dw (59,736 lb dw)
| Non-Blacknose Small Coastal Sharks | 176.1 mt dw (388,222 lb dw) | 106.2 mt dw (234,170 lb dw) |  | 264.1 mt dw (582,333 lb dw) | 264.1 mt dw (582,333 lb dw)
| Blacknose Sharks (South of 34° N. lat. only) | 17.5 mt dw (38,638 lb dw) | 20.5 mt dw (45,109 lb dw) | −1.5 mt dw (−3,268 lb dw) ⁵ | 17.2 mt dw (37,921 lb dw) | 15.7 mt dw (34,653 lb dw)
No regional quotas | Non-Sandbar LCS Research | 50.0 mt dw (110,230 lb dw) | 18.1 mt dw (39,830 lb dw) |  | 50.0 mt dw (110,230 lb dw) | 50.0 mt dw (110,230 lb dw)
| Sandbar Shark Research | 116.6 mt dw (257,056 lb dw) | 63.6 mt dw (140,258 lb dw) |  | 90.7 mt dw (199,943 lb dw) | 90.7 mt dw (199,943 lb dw)
| Blue Sharks | 273.0 mt dw (601,856 lb dw) | 0.5 mt dw (1,114 lb dw) |  | 273.0 mt dw (601,856 lb dw) | 273.0 mt dw (601,856 lb dw)
| Porbeagle Sharks | 0 mt dw (0 lb dw) | 0 mt dw (0 lb dw) |  | 1.7 mt dw (3,748 lb dw) | 1.7 mt dw (3,748 lb dw)
| Pelagic Sharks Other Than Porbeagle or Blue | 488.0 mt dw (1,075,856 lb dw) | 71.3 mt dw (157,099 lb dw) |  | 488.0 mt dw (1,075,856 lb dw) | 488.0 mt dw (1,075,856 lb dw)
¹ Landings are from January 1, 2015, through October 16, 2015, and are subject to change.
² The blacktip, aggregated LCS, and hammerhead shark management group preliminary 2015 landings were split based on the sub-regional quota percentage splits established in Amendment 6 to the 2006 Consolidated HMS FMP.
³ This adjustment accounts for underharvest in 2014 and 2015. In the final rule establishing the 2015 quotas (79 FR 71331; December 2, 2014), the 2014 Gulf of Mexico blacktip shark quota was underharvested by 72.0 mt dw (158,602 lb dw). After the final rule establishing the 2015 quotas published, late dealer reports indicated the quota was underharvested by an additional 1.4 mt dw (3,142 lb dw), for a total underharvest of 73.4 mt dw (161,744 lb dw). In 2015, the Gulf of Mexico blacktip shark quota was underharvested by 37.4 mt (82,373 lb dw). Therefore, this final rule increases the Gulf of Mexico blacktip shark quota by 38.8 mt dw (37.4 mt dw underharvest in 2015 + 1.4 mt dw underharvest from 2014). Recently, NMFS implemented Amendment 6 to the 2006 Consolidated HMS FMP which, among other things, established sub-regional quotas for the Gulf of Mexico blacktip shark management group. NMFS will account for underharvest based on the sub-regional quota percentage split. Thus, the eastern Gulf of Mexico blacktip shark quota is increased by 3.8 mt dw, or 9.8 percent of the underharvest, while the western Gulf of Mexico blacktip shark quota is increased by 35.0 mt dw, or 90.2 percent of the underharvest.
⁴ This adjustment accounts for overharvests from 2014. In the final rule establishing the 2015 quotas (79 FR 71331; December 2, 2014), the 2014 Gulf of Mexico non-blacknose SCS quota was not overharvested. After the final rule establishing the 2015 quotas published, late dealer reports indicated the quota was overharvested by 5.3 mt dw (11,612 lb dw) due to landings by state-water fishermen fishing in state-waters after the federal closure. NMFS will decrease the 2016 base annual quota based on the overharvest estimate of 5.3 mt from 2014. Based on the original 2015 annual commercial quota, the 2015 annual quota was overharvested by 7.8 mt dw (17,184 lb dw) as of October 16, 2015. In Amendment 6 to the 2006 Consolidated HMS FMP, NMFS increased the commercial Gulf of Mexico non-blacknose SCS quota to 112.6 mt dw (248,215 lb dw) and re-opened the fishery. Based on the revised annual commercial quota, reported landings have not exceeded the revised 2015 base quota to date.
⁵ This adjustment accounts for overharvest in 2012 and 2015. After the final rule establishing the 2012 quotas published, late dealer reports indicated the blacknose shark quota was overharvested by 3.5 mt dw (7,742 lb dw). In the final rule establishing the 2014 quotas, NMFS implemented a 5-year adjustment of the overharvest amount by the percentage of landings in 2012. Thus, NMFS will reduce the Atlantic blacknose sharks by 0.5 mt dw (1,111 lb dw) each year for 5 years from 2014-2018. In 2015, the Atlantic blacknose shark quota was overharvested by 3.0 (6,471 lb dw). NMFS is implementing an additional 3-year adjustment of the overharvest amount in 2015. NMFS will reduce the quota by 1.0 mt dw (2,157 lb dw) each year from 2016-2018. Therefore, this final rule decreases the Atlantic blacknose shark quota by 1.5 mt dw (1.0 mt dw overharvest in 2015 + 0.5 mt dw overharvest from 2012).

Fishing Season Notification for the 2016 Atlantic Commercial Shark Fishing Seasons

Based on the seven “opening commercial fishing season” criteria listed in § 635.27(b)(3), NMFS is opening all the 2016 Atlantic commercial shark fishing seasons on January 1, 2016 (Table 2).

Regarding the LCS retention limit, as shown in Table 2, for directed shark limited access permit holders, the Gulf of Mexico blacktip shark, aggregated LCS, and hammerhead shark management groups will start the commercial fishing season at 45 LCS other than sandbar sharks per vessel per trip, and the Atlantic aggregated LCS and hammerhead shark management groups will start the commercial fishing season at 36 LCS other than sandbar sharks per vessel per trip. In the Atlantic region, as described above, NMFS will closely monitor the quota at the beginning of the year. If it appears that the quota is being harvested too quickly to allow fishermen throughout the entire region an opportunity to fish (e.g., if approximately 20 percent of the quota is caught at the beginning of the year), NMFS will reduce the commercial retention limit, then raise it later in the season. Based on prior years' fishing activity, to allow greater fishing opportunities later in the year, NMFS anticipates raising the commercial retention limit to the default limit of 45 LCS other than sandbar sharks per vessel per trip around July 15, 2016. However, any retention limit reductions and increases will be based on consideration of the trip limit adjustment criteria at 50 CFR 635.24(a)(8).

All of the shark management groups will remain open until December 31, 2016, or until NMFS determines that the fishing season landings for any shark management group has reached, or is projected to reach, 80 percent of the available quota; however, consistent with § 635.28(b)(5), NMFS may close the Gulf of Mexico blacktip shark management group before landings reach, or are expected to reach, 80 percent of the quota. Additionally, NMFS has established non-linked and linked quotas; linked quotas are explicitly designed to concurrently close multiple shark management groups that are caught together to prevent incidental catch mortality from exceeding the total allowable catch. The linked and non-linked quotas are shown in Table 2. NMFS will file for publication with the Office of the Federal Register a notice of closure for that shark species, shark management group including any linked quotas, and/or region that will be effective no fewer than 5 days from date of filing. From the effective date and time of the closure until NMFS announces, via the publication of a notice in the Federal Register, that additional quota is available and the season is reopened, the fisheries for the shark species or management group are closed, even across fishing years.

Table 2—Quota Linkages, Season Opening Dates, and Commercial Retention Limit by Regional or Sub-Regional Shark Management Group
Region or sub-region | Management group | Quota linkages | Season opening dates | Commercial retention limits for directed shark limited access permit holders (inseason adjustments are available)
Eastern Gulf of Mexico | Blacktip Sharks | Not Linked | January 1, 2016 | 45 LCS other than sandbar sharks per vessel per trip.
| Aggregated Large Coastal Sharks Hammerhead Sharks | Linked
Western Gulf of Mexico | Blacktip Sharks | Not Linked | January 1, 2016 | 45 LCS other than sandbar sharks per vessel per trip.
| Aggregated Large Coastal Sharks Hammerhead Sharks | Linked
Gulf of Mexico | Non-Blacknose Small Coastal Sharks | Not Linked | January 1, 2016 | N/A
Atlantic | Aggregated Large Coastal Sharks Hammerhead Sharks | Linked | January 1, 2016 | 36 LCS other than sandbar sharks per vessel per trip [If quota is landed quickly (e.g., if approximately 20 percent of quota is caught at the beginning of the year), NMFS anticipates an inseason reduction (e.g., to 3 or fewer LCS other than sandbar sharks per vessel per trip), then an inseason increase to 45 LCS other than sandbar sharks per vessel per trip around July 15, 2016].
| Non-Blacknose Small Coastal Sharks Blacknose Sharks (South of 34° N. lat. only) | Linked (South of 34° N. lat. only) | January 1, 2016 | N/A
No regional quotas | Non-Sandbar LCS Research Sandbar Shark Research | Linked | January 1, 2016 | N/A
| Blue Sharks Porbeagle Sharks Pelagic Sharks Other Than Porbeagle or Blue | Not Linked | January 1, 2016 | N/A

Classification

The NMFS Assistant Administrator has determined that the final rule is consistent with the 2006 Consolidated HMS FMP and its amendments, other provisions of the Magnuson-Stevens Act, and other applicable law.

This final rule is exempt from review under Executive Order 12866.

In compliance with section 604 of the Regulatory Flexibility Act (RFA), NMFS prepared a Final Regulatory Flexibility Analysis (FRFA) for this final rule, which analyzed the adjustments to the Gulf of Mexico blacktip shark, Gulf of Mexico aggregated LCS, and blacknose shark management group quotas based on over- and/or underharvests from the previous fishing season(s). The FRFA analyzes the anticipated economic impacts of the final actions and any significant economic impacts on small entities. The FRFA is below.

Section 604(a)(1) of the RFA requires an explanation of the purpose of the rulemaking. The purpose of this final rulemaking is, consistent with the Magnuson-Stevens Act and the 2006 Consolidated HMS FMP and its amendments, to establish the 2016 Atlantic commercial shark fishing quotas and fishing seasons. Without this rule, the Atlantic commercial shark fisheries would close on December 31, 2015, and would not open until another action was taken. This final rule will be implemented according to the regulations implementing the 2006 Consolidated HMS FMP and its amendments. Thus, NMFS expects few, if any, economic impacts to fishermen other than those already analyzed in the 2006 Consolidated HMS FMP and its amendments. While there may be some direct negative economic impacts associated with the opening dates for fishermen in certain areas, there could also be positive effects for other fishermen in the region. The opening dates were chosen to allow for an equitable distribution of the available quotas among all fishermen across regions and states, to the extent practicable.

Section 604(a)(2) of the RFA requires NMFS to summarize significant issues raised by the public in response to the Initial Regulatory Flexibility Analysis (IRFA), provide a summary of NMFS' assessment of such issues, and provide a statement of any changes made as a result of the comments. The IRFA was done as part of the proposed rule for the 2016 Atlantic Commercial Shark Season Specifications. NMFS did not receive any comments specific to the IRFA. However, NMFS received comments related to the overall economic impacts of the proposed rule, and those comments and NMFS' assessment of and response to them are summarized above (see Comments 1 and 3 above). As described in the responses to those comments relating to the season opening dates, consistent with § 635.27(b)(3), the opening date for the all of the commercial shark fisheries will be implemented as proposed (January 1, 2016).

Section 604(a)(4) of the RFA requires NMFS to provide an estimate of the number of small entities to which the rule would apply. The Small Business Administration (SBA) has established size criteria for all major industry sectors in the United States, including fish harvesters. The SBA size standards are $20.5 million for finfish fishing, $5.5 million for shellfish fishing, and $7.5 million for other marine fishing, for-hire businesses, and marinas (79 FR 33647; June 12, 2014). NMFS considers all HMS permit holders to be small entities because they had average annual receipts of less than $20.5 million for finfish-harvesting. The commercial shark fisheries are comprised of fishermen who hold shark directed or incidental limited access permits and the related shark dealers, all of which NMFS considers to be small entities according to the size standards set by the SBA. This final rule applies to the approximately 210 directed commercial shark permit holders (124 in the Atlantic and 86 in the Gulf of Mexico regions), 253 incidental commercial shark permit holders (153 in the Atlantic and 100 in the Gulf of Mexico regions), and 100 commercial shark dealers (71 in the Atlantic and 29 in the Gulf of Mexico regions) as of October 2015.

Section 604(a)(5) of the RFA requires NMFS to describe the projected reporting, recordkeeping, and other compliance requirements of the final rule, including an estimate of the classes of small entities which would be subject to the requirements of the report or record. None of the actions in this final rule would result in additional reporting, recordkeeping, or compliance requirements beyond those already analyzed in the 2006 Consolidated HMS FMP and its amendments.

Section 604(a)(6) of the RFA requires NMFS to describe the steps taken to minimize the economic impact on small entities, consistent with the stated objectives of applicable statutes. Additionally, the RFA (5 U.S.C. 603(c)(1)-(4)) lists four general categories of “significant” alternatives that would assist an agency in the development of significant alternatives that would accomplish the stated objectives of applicable statutes and minimize any significant economic impact of the rule on small entities. These categories of alternatives are: (1) Establishment of differing compliance or reporting requirements or timetables that take into account the resources available to small entities; (2) clarification, consolidation, or simplification of compliance and reporting requirements under the rule for such small entities; (3) use of performance rather than design standards; and (4) exemptions from coverage of the rule, or any part thereof, for small entities.

In order to meet the objectives of this rule, consistent with the Magnuson-Stevens Act, NMFS cannot exempt small entities or change the reporting requirements only for small entities because all the entities affected are small entities. Thus, there are no alternatives discussed that fall under the first, second, and fourth categories described above. NMFS does not know of any performance or design standards that would satisfy the aforementioned objectives of this rulemaking while, concurrently, complying with the Magnuson-Stevens Act; therefore, there are no alternatives considered under the third category.

This rulemaking does not establish management measures to be implemented, but rather implements previously adopted and analyzed measures as adjustments, as specified in the 2006 Consolidated HMS FMP and its amendments and the Environmental Assessment (EA) for the 2011 shark quota specifications rule (75 FR 76302; December 8, 2010). Thus, in this rulemaking, NMFS adjusted the base quotas established and analyzed in the 2006 Consolidated HMS FMP and its amendments by subtracting the underharvest or adding the overharvest, as specified and allowable in existing regulations. Under current regulations (§ 635.27(b)(2)), all shark fisheries close on December 31 of each year, or when NMFS determines that the fishing season landings for any shark management group has reached, or is projected to reach, 80 percent of the available quota, and do not open until NMFS takes action, such as this rulemaking to re-open the fisheries. Thus, not implementing these management measures would negatively affect shark fishermen and related small entities, such as dealers, and also would not provide management flexibility in furtherance of equitable fishing opportunities, to the extent practicable, for commercial shark fishermen in all regions and areas.

Based on the 2014 ex-vessel price, fully harvesting the unadjusted 2016 Atlantic shark commercial baseline quotas could result in total fleet revenues of $4,583,514 (see Table 3). For the Gulf of Mexico blacktip shark management group, NMFS has increased the baseline sub-regional quotas due to the underharvests in 2015. The increase for the eastern Gulf of Mexico blacktip shark management group could result in a $8,397 gain in total revenues for fishermen in that sub-region, while the increase for the western Gulf of Mexico blacktip shark management group could result in a $77,289 gain in total revenues for fishermen in that sub-region. For the Gulf of Mexico non-blacknose SCS management group, NMFS has reduced the baseline quota due to the overharvest in 2014. This will cause a potential loss in revenue of $7,571 for the fleet in the Gulf of Mexico region. For the Atlantic blacknose shark management group, NMFS will continue to reduce the baseline quota through 2018 to account for overharvest in 2012 and will reduce the baseline quota for the next 3 years to account for overharvest in 2015. These reductions will cause a potential loss in revenue of $3,203 for the fleet in the Atlantic region.

All of these changes in gross revenues are similar to the changes in gross revenues analyzed in the 2006 Consolidated HMS FMP and its amendments. The FRFAs for those amendments concluded that the economic impacts on these small entities are expected to be minimal. In the 2006 Consolidated HMS FMP and its amendments and the EA for the 2011 shark quota specifications rule, NMFS stated it would be conducting annual rulemakings and considering the potential economic impacts of adjusting the quotas for under- and overharvests at that time.

Table 3—Average Ex-Vessel Prices per lb dw for Each Shark Management Group, 2014
Region | Species | Average ex-vessel meat price | Average ex-vessel fin price
Gulf of Mexico | Blacktip Shark | $0.50 | $9.53
| Aggregated LCS | 0.54 | 10.04
| Hammerhead Shark | 0.48 | 10.21
| Non-Blacknose SCS | 0.36 | 5.84
| Blacknose Shark | 0.86 | 5.84
Atlantic | Aggregated LCS | 0.75 | 4.19
| Hammerhead Shark | 0.57 | 2.33
| Non-Blacknose SCS | 0.74 | 4.00
| Blacknose Shark | 0.78 | 4.00
No Region | Shark Research Fishery (Aggregated LCS) | 0.58 | 7.68
| Shark Research Fishery (Sandbar only) | 0.69 | 10.12
| Blue shark | 0.67 | 2.34
| Porbeagle shark | 1.41 | 2.34
| Other Pelagic sharks | 1.41 | 2.34

For this final rule, NMFS reviewed the “opening commercial fishing season” criteria at § 635.27(b)(3)(i) through (vii) to determine when opening each fishery will provide equitable opportunities for fishermen while also considering the ecological needs of the different species. Over- and/or underharvests of 2015 and previous fishing season quotas were examined for the different species/complexes to determine the effects of the 2016 final quotas on fishermen across regional fishing areas. The potential season lengths and previous catch rates were examined to ensure that equitable fishing opportunities would be provided to fishermen. Lastly, NMFS examined the seasonal variation of the different species/complexes and the effects on fishing opportunities. In addition to these criteria, NMFS also considered other relevant factors, such as recent landings data and public comments, before arriving at the final opening dates for the 2016 Atlantic shark management groups. For the 2016 fishing season, NMFS is opening all of the shark management groups on January 1, 2016. The direct and indirect economic impacts will be neutral on a short- and long-term basis for the Gulf of Mexico blacktip shark, Gulf of Mexico aggregated LCS, Gulf of Mexico hammerhead shark, Gulf of Mexico non-blacknose shark SCS, Atlantic non-blacknose shark SCS, Atlantic blacknose shark, sandbar shark, blue shark, porbeagle shark, and pelagic shark (other than porbeagle or blue sharks) management groups, because NMFS did not change the opening dates of these fisheries from the status quo.

Opening the aggregated LCS and hammerhead shark management groups in the Atlantic region on January 1 will result in short-term, direct, moderate, beneficial economic impacts, as fishermen and dealers in the southern portion of the Atlantic region will be able to fish for and sell aggregated LCS and hammerhead sharks starting in January. These fishermen will be able to fish earlier in the 2016 fishing season compared to the 2010, 2011, 2012, 2014, and 2015 fishing seasons, which did not start until June or July. Based on public comment, some Atlantic fishermen in the southern and northern part of the region prefer a January 1 opening for the fishery as long as the majority of the quota is available later in the year. With the implementation of the HMS electronic reporting system in 2013, NMFS now monitors the quota on a more real-time basis compared to the paper reporting system that was in place before 2013. This ability, along with the inseason retention limit adjustment criteria in § 635.24(a)(8), should allow NMFS the flexibility to further provide equitable fishing opportunities for fishermen across all regions, to the extent practicable. Depending on how quickly the quota is being harvested, NMFS will reduce the retention limits to ensure that fishermen farther north have sufficient quota for a fishery later in the 2016 fishing season. The direct impacts to shark fishermen in the Atlantic region of reducing the trip limit depend on the needed reduction in the trip limit and the timing of such a reduction. Therefore, such a reduction in the trip limit for directed shark limited access permit holders is only anticipated to have minor adverse direct economic impacts to fishermen in the short-term; long-term impacts are not anticipated as these reductions would not be permanent.

In the northern portion of the Atlantic region, a January 1 opening for the aggregated LCS and hammerhead shark management groups, with inseason trip limit adjustments to ensure quota is available later in the season, will have direct, minor, beneficial economic impacts in the short-term for fishermen as they will potentially have access to the aggregated LCS and hammerhead shark quotas earlier than in past seasons. Fishermen in this area have stated that, depending on the weather, some aggregated LCS species might be available to retain in January. Thus, fishermen will be able to target or retain aggregated LCS while targeting non-blacknose SCS. There will be indirect, minor, beneficial economic impacts in the short- and long-term for shark dealers and other entities that deal with shark products in this region as they will also have access to aggregated LCS products earlier than in past seasons. Thus, opening the aggregated LCS and hammerhead shark management groups in January and using inseason trip limit adjustments to ensure the fishery is open later in the year in 2016 will cause beneficial cumulative economic impacts, because it allows for a more equitable distribution of the quotas among constituents in this region, consistent with the 2006 Consolidated HMS FMP and its amendments.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, NMFS has prepared a brochure summarizing fishery information and regulations for Atlantic shark fisheries for 2016. This brochure also serves as the small entity compliance guide. Copies of the compliance guide are available from NMFS (see ADDRESSES).

Authority: 16 U.S.C. 971 et seq.; 16 U.S.C. 1801 et seq.

Dated: November 20, 2015.
Samuel D. Rauch III,
Deputy Assistant Administrator for Regulatory Programs, National Marine Fisheries Service.

[FR Doc. 2015-30032 Filed 11-30-15; 8:45 am]

BILLING CODE 3510-22-P